DEPARTMENT OF TRANSPORTATION

Federal Highway Administration

Environmental Impact Statement: Erie and Cattaraugus Counties, NY

AGENCY: Federal Highway Administration (FHWA), DOT.

ACTION: Notice of Intent.

SUMMARY: The FHWA is issuing this notice to advise the public that a Supplemental Environmental Impact Statement (SEIS) will be prepared for the proposed highway improvement project: US Route 219 Springville to Salamanca, NY Route 39 to NY Route 17 (I-86), Erie & Cattaraugus Counties, New York. A Reevaluation of the 2003 FEIS was completed in May 2009; NYSDOT and FHWA concluded that a SEIS for the un-built portion of the project was required due to (i) significant increase in the area of identified wetlands in the project corridor, and (ii) observed changes in traffic growth rates for some segments of existing Route 219 that may influence the safety and operational characteristics of the previously identified alternatives. These issues will be evaluated and presented through the development of the SEIS. FHWA intends to utilize the environmental review provisions afforded under Section 6002 of the Safe, Accountable, Flexible, Efficient, Transportation Equity Act: A Legacy for Users (SAFETEA-LU) in the development of the SEIS.

FOR FURTHER INFORMATION CONTACT: Jeffrey W. Kolb, P.E., Division Administrator, Federal Highway Administration, New York Division, Leo W. O'Brien Federal Building, 7th Floor, Suite 719, Clinton Avenue and North Pearl Street, Albany, New York 12207, Telephone: (518) 431-4127. Or Alan E. Taylor, P.E., Regional Director, NYSDOT Region 5; 100 Seneca Street, Buffalo, NY 14203, Telephone: (716) 847-3238.

SUPPLEMENTARY INFORMATION: The Federal Highway Administration (FHWA), in cooperation with the New York State Department of Transportation (NYSDOT) will prepare a Supplemental Environmental Impact Statement (SEIS) to supplement the 2003 Final Environmental Impact Statement (FEIS) completed for the US Route 219, Springville to Salamanca, project. The SEIS will address the segment of Route 219 between the Town of Ashford and Interstate 86 near the City of Salamanca, all in Cattaraugus County, New York. The proposed improvement would involve the construction of a new route or the upgrade and rehabilitation of the existing route for a distance of about 25 miles. This project is necessary for the continuation of a modern and efficient transportation facility and trade corridor from the Greater Buffalo-Niagara region, at the US/Canadian border, to the I-86 corridor near the City of Salamanca. Depending on the alternative selected, the project may include interchanges, access management practices, and by-passes around population centers.

Alternatives under consideration include (1) the Null Alternative: taking no action; (2) the Upgrade Alternative: widening the existing two-lane highway to four lanes with the possible inclusion of population center by-passes; and (3) the Freeway Alternative: constructing a four-lane, limited access freeway on new location.

Letters describing the proposed action and soliciting comments will be sent to appropriate Federal, State, and local agencies, along with private organizations and citizens who have previously expressed interest in this action and/or the 2003 FEIS. The public and agencies will be offered an opportunity to comment on the Purpose and Need, range of alternatives, level of detail, methodologies, etc. This will be accomplished through a series of coordination/stakeholder meetings. Subsequent to the coordination/stakeholder meetings, public information meetings will be held throughout the development of the SEIS in Ellicottville and Great Valley in 2010 and 2011. In addition, formal National Environmental Policy Act (NEPA) public hearings will be conducted. Public notice will be given of the time and place of the meetings and hearings. The Draft SEIS will be available for public and agency review and comment.

To ensure that the full range of issues related to this proposed action are addressed and all significant issues identified, comments and suggestions are invited from all interested parties. Comments or questions concerning this proposed action and the SEIS should be directed to the New York State Department of Transportation or the Federal Highway Administration at the addresses provided above. Please identify all correspondence regarding this project as: PIN 5101.84, US Route 219, Springville to Salamanca, NY Route 39 to NY Route 17 (I-86)—SEIS, Erie & Cattaraugus Counties, New York.

(Catalog of Federal Domestic Assistance Program Number 20.205, Highway Research, Planning and Construction. The regulations implementing Executive Order 12372 regarding intergovernmental consultation on Federal programs and activities apply to this program.) Authority: 23 U.S.C. 315; U.S.C. 771.123.

Issued on: August 12, 2009
Jeffrey W. Kolb,
Division Administrator, New York Division, Federal Highway Administration, Albany, New York.

[FR Doc. E9-19753 Filed 8-17-09; 8:45 am]

BILLING CODE 4910-22-P